DEPARTMENT OF COMMERCE

National Oceanic and Atmospheric Administration

[I.D. 081403A]

Marine Mammals; File No. 782-1708

AGENCY: National Marine Fisheries Service (NMFS), National Oceanic and Atmospheric Administration (NOAA), Commerce.

ACTION: Notice; receipt of application for amendment.

SUMMARY: Notice is hereby given that NMFS National Marine Mammal Laboratory, 7600 Sand Point Way NE, Bldg. 4, Seattle, WA 98115-0070 (Principal Investigator: Dr. John Bengtson), has requested a major amendment to scientific research Permit No. 782-1708.

DATES: Written, telefaxed, or e-mail comments must be received on or before October 1, 2007.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 782-1708.

FOR FURTHER INFORMATION CONTACT: Tammy Adams or Amy Sloan, (301)713-2289.

SUPPLEMENTARY INFORMATION: The subject amendment to Permit No. 782-1708 is requested under the authority of the Marine Mammal Protection Act of 1972, as amended (16 U.S.C. 1361 et seq.), and the regulations governing the taking and importing of marine mammals (50 CFR part 216).

Permit No. 782-1708 , issued on August 28, 2003 (68 FR 53967), authorizes the permit holder to capture and harass northern fur seals (Callorhinus ursinus) of the eastern Pacific stock in Alaska during scientific research for: monitoring the status and trends of the population; evaluating the condition of animals from each cohort (health and strength of year-class); monitoring the seals' diet; and documenting the movement patterns, foraging behavior, and essential foraging habitat of various age and sex classes of fur seals. Seals may be captured, tagged, sampled and harassed during annual censuses. The information collected under this permit is related to assessing the recovery of this depleted species and for evaluating management actions. The permit holder now requests authorization to perform additional sampling procedures on animals already authorized for capture. The proposed amendment would not result in an increase in the number of northern fur seals captured and sampled, but would add the following procedures related to a vital rate study or identification of location of prey consumption events: flipper tagging all pups captured; extraction of a single tooth, under anesthesia, from all non-pups captured; and use of a stomach temperature telemeter/recorder on non-pups captured.

In compliance with the National Environmental Policy Act of 1969 (42 U.S.C. 4321 et seq.), an initial determination has been made that the activities proposed are consistent with the Preferred Alternative in the Final Programmatic Environmental Impact Statement for Steller Sea Lion and Northern Fur Seal Research (NMFS 2007), and that issuance of the permit amendment would not have a significant adverse impact on the human environment.

Concurrent with the publication of this notice in the Federal Register, NMFS is forwarding copies of this application to the Marine Mammal Commission and its Committee of Scientific Advisors.

Dated: August 27, 2007.
Tammy C. Adams,
Acting Chief, Permits, Conservation and Education Division, Office of Protected Resources, National Marine Fisheries Service.

[FR Doc. E7-17320 Filed 8-30-07; 8:45 am]

BILLING CODE 3510-22-S